DEPARTMENT OF TRANSPORTATION

Federal Aviation Administration

14 CFR Part 97

[Docket No. 30359; Amdt. No. 3049]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective March 20, 2003. The compliance date for each SIAP is specified in the amendatory provisions.

The incorporation by reference of certain publications listed in the regulations is approved by the Director of the Federal Register as of March 20, 2003.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The Office of Federal Register, 800 North Capitol Street, NW., Suite 700, Washington, DC.

For Purchase—

Individual SIAP copies may be obtained from:

1. FAA Public Inquiry Center (APA-200), FAA Headquarters Building, 800 Independence Avenue, SW., Washington, DC 20591; or

2. The FAA Regional Office of the region in which the affected airport is located.

By Subscription—

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK. 73169 (Mail Address: PO Box 25082, Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on March 13, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, and 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

. . . Effective April 17, 2003

Long Beach, CA, Daugherty Field, VOR OR TACAN RWY 30, Amdt 8 Meadville, PA, Port Meadville, LOC RWY 25, Amdt 5

. . . Effective May 15, 2003

Kenai, AK, Kenai Muni, ILS RWY 19R, Amdt 1

Kenai, AK, Kenai Muni, RNAV (GPS) RWY 1L, Orig

Kenai, AK, Kenai Muni, RNAV (GPS) RWY 19R, Orig

Kenai, AK, Kenai Muni, (GPS) RWY 1L, Orig, (CANCELLED)

Kenai, AK, Kenai Muni, (GPS) RWY 19R, Orig (CANCELLED)

Point Hope, AK, Point Hope, NDB RWY 1, Amdt 2

Point Hope, AK, Point Hope, NDB RWY 19, Amdt 2

Point Hope, AK, Point Hope, RNAV (GPS) RWY 1, Orig

Point Hope, AK, Point Hope, RNAV (GPS) RWY 19, Orig

Borrego Springs, CA, Borrego Valley, RNAV (GPS) RWY 25, Orig

Borrego Springs, CA, Borrego Valley, (GPS) RWY 25, Orig (CANCELLED)

Akron, CO, Colorado Springs Regional, RNAV (GPS) RWY 11, Orig

Akron, CO, Colorado Springs Regional, RNAV (GPS) RWY 29, Orig

Akron, CO, Colorado Springs Regional, (GPS) RWY 11, Orig (CANCELLED)

Akron, CO, Colorado Springs Regional, (GPS) RWY 29, Orig (CANCELLED)

Atlanta, GA, Fulton County Arpt-Brown Field, ILS RWY 8, Amdt 16

Statesboro, GA, Statesboro-Bulloch County, RNAV (GPS) RWY 32, Amdt 1

Thomaston, GA, A, Thomaston-Upson County, ILS RWY 30, Amdt 1

Pratt, KS, Pratt Industrial, RNAV (GPS) RWY 17, Orig

Pratt, KS, Pratt Industrial, RNAV (GPS) RWY 35, Orig

Pratt, KS, Pratt Industrial, NDB RWY 17, Amdt 5

Lake Charles, LA, Lake Charles Regional, VOR-A, Amdt 14

Lake Charles, LA, Lake Charles Regional, VOR/DME-B, Amdt 8

Lake Charles, LA, Lake Charles Regional, LOC BC RWY 33, Amdt 19

Lake Charles, LA, Lake Charles Regional, NDB RWY 15, Amdt 19

Lake Charles, LA, Lake Charles Regional, ILS RWY 15, Amdt 20

Lake Charles, LA, Lake Charles Regional, RADAR-1, Amdt 5

Lake Charles, LA, Lake Charles Regional, RNAV (GPS) RWY 5, Orig

Lake Charles, LA, Lake Charles Regional, VOR/DME RNAV RWY 5, Amdt 3B (CANCELLED)

Lake Charles, LA, Lake Charles Regional, (GPS) RWY 5, Orig (CANCELLED)

Lake Charles, LA, Lake Charles Regional, RNAV (GPS) RWY 15, Orig

Lake Charles, LA, Lake Charles Regional, RNAV (GPS) RWY 23, Orig

Lake Charles, LA, Lake Charles Regional, VOR/DME RNAV RWY 23, Amdt 3B (CANCELLED)

Lake Charles, LA, Lake Charles Regional, (GPS) RWY 23, Orig (CANCELLED)

Lake Charles, LA, Lake Charles Regional, RNAV (GPS) RWY 33, Orig

Southbridge, MA, Southbridge Muni, VOR/DME-B, Amdt 8

Elko, NV, Elko Regional, VOR-A, Amdt 5

Elko, NV, Elko Regional, VOR/DME-B, Amdt 4

Elko, NV, Elko Regional, RNAV (GPS) RWY 23, Orig

Andover, NJ, Aeroflex-Andover, RNAV (GPS) RWY 3, Orig

Andover, NJ, Aeroflex-Andover, (GPS) RWY 3, Orig (CANCELLED)

Somerville, NJ, Somerset, VOR/DME RNAV OR (GPS) RWY 12, Amdt 2 (CANCELLED)

Wadsworth, OH, Wadsworth Muni, RNAV (GPS) RWY 2, Orig

Wadsworth, OH, Wadsworth Muni, RNAV (GPS) RWY 20, Orig

Wadsworth, OH, Wadsworth Muni, NDB or (GPS) RWY 2, Amdt 5A (CANCELLED)

Claremore, OK, Claremore Regional, VOR/DME-A, Amdt 1

Claremore, OK, Claremore Regional, VOR/DME-B, Amdt 2

Claremore, OK, Claremore Regional, RNAV (GPS) RWY 35, Orig

Claremore, OK, Claremore Regional, (GPS) RWY 35, Orig (CANCELLED)

Fairview, OK, Fairview Muni, RNAV (GPS) RWY 17, Orig

Fairview, OK, Fairview Muni, (GPS) RWY 17, (CANCELLED)

Frederick, OK, Frederick Muni, NDB RWY 35L, Amdt 1A (CANCELLED)

Holdenville, OK, Holdenville Muni, RNAV (GPS) RWY 17, Orig

Holdenville, OK, Holdenville Muni, RNAV (GPS) RWY 35, Orig

Holdenville, OK, Holdenville Muni, (GPS) RWY 17, Amdt 1, (CANCELLED)

Holdenville, OK, Holdenville Muni, (GPS) RWY 35, Amdt 1, (CANCELLED)

Oklahoma City, OK, Will Rogers World, RNAV (GPS) RWY 31, Orig

Lock Haven, PA, William T. Piper Memorial, RNAV (GPS)-A, Orig

Selinsgrove, PA, Penn Valley, RNAV (GPS)-B, Orig

Babelthuap Island, PS, Babelthuap/Koror, RNAV (GPS) RWY 9, Orig

Babelthuap Island, PS, Babelthuap/Koror, RNAV (GPS) RWY 27, Orig

Pierre, SD, Pierre Regional, ILS RWY 31, Amdt 11

Pierre, SD, Pierre Regional, VOR/DME OR TACAN RWY 7, Amdt 5

Pierre, SD, Pierre Regional, RNAV (GPS) RWY 13, Orig

Denton, TX, Denton Muni, ILS RWY 17, Amdt 7

Houston, TX, May, VOR/DME-C, Orig

Houston, TX, May, VOR/DME-A, Amdt 1 (CANCELLED)

Houston, TX, Weiser Air Park, NDB-F, Orig

Houston, TX, Weiser Air Park, NDB-D, Orig (CANCELLED)

Houston, TX, Weiser Air Park, RNAV (GPS)-G, Orig

Houston, TX, Weiser Air Park, RNAV (GPS)-E, Orig (CANCELLED)

Oak Harbor, WA, Wes Lupien, RADAR 2, Orig, (CANCELLED)

Park Falls, WI, Park Falls Muni, NDB RWY 36, Amdt 1

Park Falls, WI, Park Falls Muni, RNAV (GPS) RWY 18, Orig

Park Falls, WI, Park Falls Muni, RNAV (GPS) RWY 36, Orig

The FAA published the following procedures in Docket No. 30357; Amdt No. 3047 to Part 97 of the Federal Aviation Regulations (Vol. 68, FR No. 45, Page 10964; dated Friday, March 7, 2003) under section 97.33 effective May 15, 2003 which are hereby rescinded:

Somerville, NJ, Somerset, GPS Rwy 12, Amdt 2, Cancelled

The FAA published the following procedures in Docket No. 30357; Amdt No. 3047 to Part 97 of the Federal Aviation Regulations (Vol. 68, FR No. 45, Page 10964; dated Friday, March 7, 2003) under section 97.33 effective March 20, 2003 which are hereby corrected as follows:

Burlington, VT, Burlington Intl, GPS RWY 33, Orig-B CANCELLED

[FR Doc. 03-6620 Filed 3-19-03; 8:45 am]

BILLING CODE 4910-13-M